NUCLEAR REGULATORY COMMISSION

[Docket No. 50-344]

Environmental Assessment and Finding of No Significant Impact Related to Portland General Electric Company's Request for Partial Exemption From the Recordkeeping Requirements

I. Introduction

The U.S. Nuclear Regulatory Commission (NRC) is considering granting a partial exemption from the Recordkeeping requirements of Title 10 of the Code of Federal Regulations (10 CFR) 50.71(c); 10 CFR part 50, appendix A; 10 CFR part 50, appendix B, for the Trojan Nuclear Plant (TNP) as requested by Portland General Electric Company (PGE) on July 9, 2003. An environmental assessment (EA) was performed by the NRC staff in support of its review of the exemption request.

II. Environmental Assessment

Introduction

PGE is the licensee and holder of Facility Operating License No. NPF-1(TNP). On January 27, 1993, PGE notified NRC of its decision to permanently cease power operation at TNP. PGE submitted the Trojan Decommissioning Plan (DP) and a decommissioning environmental report on January 2, 1993, which the NRC approved on December 18, 1995. The licensee began decommissioning shortly after NRC approved the DP. The licensee has removed and successfully shipped the TPN steam generators, pressurizer, and reactor pressure vessel for off-site disposal at the U.S. Ecology low-level radioactive waste disposal facility near Richland, Washington. With removal of these components, the licensee has removed approximately 99 percent of the activity covered under its part 50 license.

Purpose and Need for Proposed Action

The requested exemption and application of the exemption will eliminate an unwarranted financial burden on ratepayers associated with the storage of a large volume of hardcopy records.

The Proposed Action

The proposed action would allow the disposal of records, prior to termination of Trojan Nuclear Plant Possession Only License No. NPF-1, that: (1) Are associated with the operation, design, fabrication, erection, and testing of structures, systems, and components that are no longer quality-related and/or important to safety, and that are no longer operational; and (2) require storage in their original hardcopy formats due to practical and feasibility limitations associated with transferring them to microform format, such that significant amounts of costly storage space are required.

Alternatives to Proposed Action

No action. Under this alternative TNP would continue to store the records in question until license termination.

The Affected Environment and Environmental Impacts

None. The proposed action is purely administrative in nature and will have no effect on the environment.

Agencies and Persons Contacted

None.

Conclusions

NRC has determined that the proposed action will have no significant effect on the quality of the human environment.

III. Finding of No Significant Impact

Based on this review, the NRC staff has concluded that there are no significant impacts on the quality of the human environment. Accordingly, the staff has determined that preparation of an Environmental Impact Statement is not warranted, and a Finding of No Significant Impact is appropriate.

IV. Further Information

The licensee's request for the proposed action (ADAMS Accession No: ML022970110) and other related documents to this proposed action are available for public inspection and copying for a fee at NRC's Public Document Room at NRC Headquarters, One White Flint North, 11555 Rockville Pike, Rockville, Maryland 20852. These documents are available for public review through ADAMS, the NRC's electronic reading room, at: http://www.nrc.gov/reading-rm/adams.html.

Any questions with respect to this action should be referred to John Buckley, Decommissioning Branch, Mailstop T-7F27, Division of Waste Management, Office of Nuclear Material Safety and Safeguards, U.S. Nuclear Regulatory Commission, Washington, DC 20555-0001. Telephone: (301) 415-6607.

Dated at Rockville, Maryland, this 11th day of August, 2003.
For the Nuclear Regulatory Commission.
Daniel M. Gillen,
Chief, Decommissioning Branch, Division of Waste Management, Office of Nuclear Material Safety and Safeguards.

[FR Doc. 03-21294 Filed 8-19-03; 8:45 am]

BILLING CODE 7590-01-P